DEPARTMENT OF VETERANS AFFAIRS

[OMB Control No. 2900-0381]

Agency Information Collection Activities Under OMB Review

AGENCY: Veterans Benefits Administration, Department of Veterans Affairs.

ACTION: Notice.

SUMMARY: In compliance with the Paperwork Reduction Act (PRA) of 1995 (44 U.S.C., 3501 et seq.), this notice announces that the Veterans Benefits Administration (VBA), Department of Veterans Affairs, has submitted the collection of information abstracted below to the Office of Management and Budget (OMB) for review and comment. The PRA submission describes the nature of the information collection and its expected cost and burden; it includes the actual data collection instrument.

DATES: Comments must be submitted on or before March 3, 2000.

FOR FURTHER INFORMATION OR A COPY OF THE SUBMISSION CONTACT: Denise McLamb, Information Management Service (045A4), Department of Veterans Affairs, 810 Vermont Avenue, NW, Washington, DC 20420, (202) 273-8030 or FAX (202) 273-5981. Please refer to “OMB Control No. 2900-0381.”

SUPPLEMENTARY INFORMATION: Title: Notice for Election to Convey and/or Invoice for Transfer of Property, VA Form 26-8903.

OMB Control Number: 2900-0381 .

Type of Review: Extension of a currently approved collection.

Abstract: Section 3732 of Title 38, U.S.C., and 38 CFR 36.4320(a)(1), provides that if a minimum amount for credit to the borrower's indebtedness has been specified by VA in relation to the sale of the real property and the holder is the successful bidder at the sale for no more than the amount specified by the Secretary, the holder will credit the indebtedness with that amount. The holder may then retain the property, or not later than 15 days after the date of sale, advise the Secretary of its election to convey and transfer the property to the Secretary. VA Form 26-8903 serves four purposes: holder's election to convey; invoice for the purchase price of the property; VA's voucher for authorizing payment to the holder; and establishment of the VA's property records. The form provides the holder, who has elected to convey a property to the VA, with a convenient and uniform means of notification to the proper VA regional office. This form simplifies processing for lenders/holders who, in most instances, operate branch offices statewide and nationwide.

An agency may not conduct or sponsor, and a person is not required to respond to a collection of information unless it displays a currently valid OMB control number. The Federal Register Notice with a 60-day comment period soliciting comments on this collection of information was published on September 28, 1999, at pages 52371-52372.

Affected Public: Business or other for-profit.

Estimated Annual Burden: 5,000 hours.

Estimated Average Burden Per Respondent: 10 minutes.

Frequency of Response: On occasion.

Estimated Number of Respondents: 30,000.

Send comments and recommendations concerning any aspect of the information collected to VA's OMB Desk Officer, Allison Eydt, OMB Human Resources and Housing Branch, New Executive Office Building, Room 10235, Washington, DC 20503, (202) 395-4650. Please refer to “OMB Control No. 2900-0381” in any corespondence.

Dated: December 28, 1999.
By direction of the Secretary.
Sandra S. McIntyre,
Management Analyst, Information Management Service.

[FR Doc. 00-2210 Filed 2-1-00; 8:45 am]

BILLING CODE 8320-01-P